DEPARTMENT OF TRANSPORTATION

Federal Aviation Administration

14 CFR Part 71

[Docket No. FAA-2024-2512; Airspace Docket No. 24-AEA-9]

RIN 2120-AA66

Amendment of Domestic Very High Frequency Omnidirectional Range (VOR) Federal Airways V-1, V-29, V-38, V-139, and V-286; Eastern United States

AGENCY: Federal Aviation Administration (FAA), DOT.

ACTION: Final rule.

SUMMARY: This action amends domestic Very High Frequency Omnidirectional Range (VOR) Federal Airways V-1, V-29, V-38, V-139, and V-286 in the eastern United States. The FAA is taking this action due to the planned decommissioning of the Salisbury, MD (SBY), VOR/Tactical Air Navigation (VORTAC) and the Snow Hill, MD (SWL), VORTAC. This action is in support of the FAA's VOR Minimum Operational Network (MON) Program.

DATES: Effective date 0901 UTC, August 7, 2025. The Director of the Federal Register approves this incorporation by reference action under 1 CFR part 51, subject to the annual revision of FAA Order JO 7400.11 and publication of conforming amendments.

ADDRESSES: A copy of the notice of proposed rulemaking (NPRM), all comments received, this final rule, and all background material may be viewed online at www.regulations.gov using the FAA Docket number. Electronic retrieval help and guidelines are available on the website. It is available 24 hours each day, 365 days each year.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Brian Vidis, Rules and Regulations Group, Policy Directorate, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, section 106 describes the authority of the FAA Administrator. Subtitle VII, Aviation Programs, describes in more detail the scope of the agency's authority. This rulemaking is promulgated under the authority described in Subtitle VII, Part A, Subpart I, section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the National Airspace System (NAS).

History

The FAA published a NPRM for Docket No. FAA 2024-2512 in the Federal Register (89 FR 93233; November 26, 2024), proposing to amend domestic VOR Federal Airways V-1, V-29, V-38, V-139, and V-286 in the eastern United States. Interested parties were invited to participate in this rulemaking effort by submitting written comments on the proposal to the FAA. No comments were received. The FAA acknowledges it has another airspace action that used the same airspace docket number (Airspace Docket No. 24-AEA-9); however, each airspace action had a separately identifiable Docket No. allowing the FAA to attribute comments to the appropriate airspace action. The FAA did not receive comments for either airspace action.

Differences From the NPRM

Subsequent the NPRM, the FAA made minor editorial corrections to the airway description of VOR Federal Airway V-1 and V-139 to comply with ATS route formatting requirements.

Incorporation by Reference

Domestic VOR Federal Airways are published in paragraph 6010(a) of FAA Order JO 7400.11, Airspace Designations and Reporting Points, which is incorporated by reference in 14 CFR 71.1 on an annual basis. This document amends the current version of that order, FAA Order JO 7400.11J, dated July 31, 2024, and effective September 15, 2024. These amendments will be published in the next update to FAA Order JO 7400.11. FAA Order JO 7400.11J is publicly available as listed in the ADDRESSES section of this document.

FAA Order JO 7400.11J lists Class A, B, C, D, and E airspace areas, air traffic service routes, and reporting points.

The Rule

This action amends 14 CFR part 71 by amending VOR Federal Airways V-1, V-29, V-38, V-139, and V-286 to support the planned decommissioning of the Salisbury, MD (SBY), VORTAC and the Snow Hill, MD (SWL), VORTAC. This action is in support of the FAA's VOR MON Program. The ATS route changes are described below.

V-1: Prior to this final rule, V-1 extended between the Craig, FL (CRG), VORTAC and the Boston, MA (BOS), VOR/Distance Measuring Equipment (VOR/DME). The FAA removes the airway segments between the Norfolk, VA (ORF), VORTAC and the Waterloo, DE (ATR), VOR/DME due to the scheduled decommissioning of the Salisbury, MD (SBY), VORTAC. Additionally, the FAA adds language to the route description that the airway excludes restricted area R-5002F as it is adjacent to VOR Federal Airway V-1 and removes language that the airway excludes restricted area R-4006 as it would no longer be adjacent to VOR Federal Airway V-1.

As amended, the route extends between the Craig VORTAC and the Norfolk VORTAC; and between the Waterloo VOR/DME and the Boston VOR/DME. The portions within R-5002A, R-5002C, R-5002D and R-5002F are excluded during their times of designation.

V-29: Prior to this final rule, V-29 extended between the Snow Hill, MD (SWL), VORTAC and the Syracuse, NY (SYR), VORTAC. The FAA removes the airway segments between the Snow Hill VORTAC and the Smyrna, DE (ENO), VORTAC due to the scheduled decommissioning of the Snow Hill VORTAC. As amended, the route extends between the Smyrna VORTAC and the Syracuse VORTAC.

V-38: Prior to this final rule, V-38 extended between the Moline, IL (MZV), VOR/DME and the intersection of the Fort Wayne, IN (FWA), VORTAC 091° and the Rosewood, OH (ROD), VORTAC 334° radials (WINES Fix); and between the Appleton, OH (APE), VORTAC and the Cape Charles, VA (CCV), VORTAC. The FAA removes the Cape Charles VORTAC and replaces it with the LNSKY, VA, Fix due to a need for VOR Federal Airway V-38 to connect to the redesigned VOR Federal Airway V-139 in this docket. The LNSKY Fix is defined as the intersection of the Harcum, VA (HCM), VORTAC 100° True (T)/107° Magnetic (M) and the Norfolk, VA (ORF), VORTAC 026° T/033° M radials, and would be charted on VOR Federal Airway V-139. As amended, the route extends between the Moline VOR/DME and the WINES Fix; and between the Appleton VORTAC and the LNSKY Fix.

V-139: Prior to this final rule, V-139 extended between the Florence, SC (FLO), VORTAC and the Kennebunk, ME (ENE), VOR/DME. The FAA removes the Cape Charles, VA (CCV), VORTAC and the Snow Hill, MD (SWL), VORTAC from the route and replaces them with a route segment directly between the Norfolk, VA (ORF), VORTAC and the Sea Isle, NJ (SIE), VORTAC due to the scheduled decommissioning of the Snow Hill VORTAC.

The FAA also adds the SUWHT, VA, Fix and the WINAL, NC, Fix to the route between the intersection of the New Bern, NC (EWN), VOR/DME 006° and Norfolk VORTAC 209° radials (PEARS Fix) and the Norfolk VORTAC due to a need to align this portion of the airway to the commonly assigned routing between the PEARS Fix; SUWHT Fix; WINAL Fix; and Norfolk VORTAC. The SUWHT, VA, Fix is defined as the intersection of the Norfolk, VORTAC 209° T/216° M and Elizabeth City, NC (ECG), VOR/DME 243° T/250° M radials; and the WINAL, NC, Fix is defined as the intersection of the Elizabeth City VOR/DME 243° T/250° M and Norfolk VORTAC 194° T/201° M radials.

Additionally, the FAA adds language to the route description that the airway excludes restricted area R-5301, R-5302, R-5303, R-5304, and R-5306 as they are adjacent to VOR Federal Airway V-139; and removes language that the airway excludes restricted area R-5202 as it is not adjacent to VOR Federal Airway V-139. As amended, the airway continues to extend between the Florence VORTAC and the Kennebunk VOR/DME. The airspace below 2,000 feet mean sea level (MSL) outside the United States, the airspace below 3,000 feet MSL between the Kennedy, NY, 087° and 141° radials, and the portions within R-5301, R-5302, R-5303, R-5304, R-5306 and R-6604 are excluded during their times of designation.

V-286: Prior to this final rule, V-286 extended between the Elkins, WV (EKN), VORTAC and the Cape Charles, VA (CCV), VORTAC. The FAA removes the airway segment between the Brooke, VA (BRV), VORTAC and the Cape Charles VORTAC due to the Brooke VORTAC being out of service and unable to provide navigational guidance for this airway segment. As amended, the route extends between the Elkins VORTAC and the Brooke VORTAC.

The navigational aid radials listed in the VOR Federal airway description regulatory text of this final rule are stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending domestic VOR Federal Airways V-1, V-29, V-38, V-139, and V-286 in the eastern United States, qualifies for categorical exclusion under the National Environmental Policy Act (42 U.S.C. 4321 et seq.) and in accordance with FAA Order 1050.1F, “Environmental Impacts: Policies and Procedures,” paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this airspace action is not expected to cause any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact statement.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g), 40103, 40113, 40120; E.O. 10854, 24 FR 9565, 3 CFR, 1959-1963 Comp., p.389.

§ 71.1 [Amended]

2. The incorporation by reference in 14 CFR 71.1 of FAA Order JO 7400.11J, Airspace Designations and Reporting Points, dated July 31, 2024, and effective September 15, 2024, is amended as follows:

Paragraph 6010(a) Domestic VOR Federal Airways.

* * * * *

V-1 [Amended]

From Craig, FL; INT Craig 020° and Charleston, SC, 214° radials; Charleston; Grand Strand, SC; INT Grand Strand 031° and Kinston, NC, 214° radials; Kinston; Cofield, NC; to Norfolk, VA. From Waterloo, DE; INT Waterloo 024° and Coyle, NJ, 216° radials; Coyle; INT Coyle 036° and Kennedy, NY, 209° radials; Kennedy; Deer Park, NY; Madison, CT; Hartford, CT; INT Hartford 040° and Boston, MA, 252° radials; to Boston, MA; excluding the airspace below 2,700 feet MSL outside the United States between STARY INT and Charleston, SC. The portions within R-5002A, R-5002C, R-5002D and R-5002F are excluded during their times of designation.

* * * * *

V-29 [Amended]

From Smyrna, DE; Dupont, DE; Modena, PA; Pottstown, PA; East Texas, PA; Wilkes-Barre, PA; Binghamton, NY; INT Binghamton 005° and Syracuse, NY, 169° radials; to Syracuse.

* * * * *

V-38 [Amended]

From Moline, IL; INT Moline 082° and Peotone, IL, 281° radials; Peotone; Fort Wayne, IN; to INT Fort Wayne 091° and Rosewood, OH, 334° radials. From Appleton, OH; Zanesville, OH; Parkersburg, WV; Elkins, WV; Gordonsville, VA; Richmond, VA; Harcum, VA; to INT Harcum 100° and Norfolk, VA, 026° radials.

* * * * *

V-139 [Amended]

From Florence, SC; Wilmington, NC; New Bern, NC; INT New Bern 006° and Norfolk, VA, 209° radials; INT Norfolk 209° and Elizabeth City, NC, 243° radials; INT Elizabeth City 243° and Norfolk 194° radials; Norfolk; Sea Isle, NJ; INT Sea Isle 050° and Hampton, NY, 223° radials; Hampton; Providence, RI; INT Providence 079° and Sandy Point, RI, 031° radials; INT Sandy Point 031° and Kennebunk, ME, 180° radials; to Kennebunk. The airspace below 2,000 feet MSL outside the United States, the airspace below 3,000 feet MSL between the Kennedy, NY, 087° and 141° radials, and the portions within R-5301, R-5302, R-5303, R-5304, R-5306 and R-6604 are excluded during their times of designation.

* * * * *

V-286 [Amended]

From Elkins, WV; Casanova, VA; INT Casanova 142° and Brooke, VA, 300° radials; to Brooke.

* * * * *

Issued in Washington, DC, on May 15, 2025.
Brian Eric Konie,
Manager (A), Rules and Regulations Group.

[FR Doc. 2025-09002 Filed 5-19-25; 8:45 am]

BILLING CODE 4910-13-P